TENNESSEE VALLEY AUTHORITY

Environmental Assessment or Environmental Impact Statement—Proposed Commercial Recreational and Residential Developments on Tellico Reservoir, Loudon County, TN

AGENCY: Tennessee Valley Authority (TVA).

ACTION: Notice of intent.

SUMMARY: This notice is provided in accordance with the Council on Environmental Quality's regulations (40 CFR parts 1500 to 1508), section 106 of the National Historic Preservation Act and its implementing regulations (36 CFR part 800), and TVA's procedures implementing the National Environmental Policy Act (NEPA). TVA will prepare an Environmental Assessment (EA) or an Environmental Impact Statement (EIS) to assess the impacts of a project for commercial recreation and residential development proposed by a private developer (LTR Properties, Inc.) in the area encompassing TVA property on the Tellico Reservoir in east Tennessee (Loudon County). The proposed project would encompass approximately 266.7 hectares (659 acres): 46.5 hectares (115 acres) of TVA land, 85.8 hectares (212 acres) of land purchased by the developer from the Tellico Reservoir Development Agency (TRDA), and 132.3 hectares (327 acres) of private land. TVA must decide whether to make about 46.5 hectares (115 acres) of federal property on the Tellico Reservation available for LTR Properties, Inc., to use in constructing a residential resort and golf course community. Additionally, TVA must decide whether to approve the use of about 2.1 hectares (5 acres) of TVA property, below the 249.93-meter (820-foot) elevation and lying between the former TRDA property and Tellico Reservoir, for a small golf course.

DATES: Comments on the scope of the environmental review must be received on or before July 26, 2002.

ADDRESSES: Written comments should be sent to Jon M. Loney, Manager, NEPA Administration, Environmental Policy and Planning, Tennessee Valley Authority, 400 West Summit Hill Drive, Knoxville, Tennessee 37902-1499.

FOR FURTHER INFORMATION CONTACT: Richard L. Toennisson, NEPA Specialist, Environmental Policy and Planning, Tennessee Valley Authority, 400 West Summit Hill Drive, WT 8C, Knoxville, Tennessee 37902-1499; telephone: (865) 632-8517; or e-mail: rltoennisson@tva.gov.

SUPPLEMENTARY INFORMATION: TVA acquired the Tellico Reservation properties, consisting of about 15,271 hectares (37,337 acres), for the construction of Tellico Dam and Reservoir which were completed in 1978. Part of this property (4,513 hectares or 11,151 acres) was acquired for economic development purposes, and, in 1982, these acres were sold to Tellico Reservoir Development Agency (TRDA), which is a Tennessee state agency created for that purpose. TVA retains approximately 5,116 hectares (12,643 acres) of Tellico Reservoir shoreline property for public use and/or use in TVA projects.

During the past few years, TVA and TRDA have received several development proposals from the private sector asking to use the TRDA property allocated for commercial recreation, together with TVA Tellico Reservation property including the subject 46.5-hectare (115-acre) tract. In 2000, TVA prepared a land use plan to allocate public land for varying uses: TVA Project Operations, Sensitive Resource Management, Natural Resource Conservation, Industrial/Commercial Development, Recreation, and Residential Access. Under the 2000 land use plan, 18.4 hectares (45.4 acres) of the property requested from TVA for the development is allocated for recreation use and the remaining 27.1 hectares (69.6 acres) is allocated for natural resource conservation. The total 46.5 hectares (115 acres) is currently available to the public for informal recreational use but is currently accessible only from water or across private land.

In May 2002, a private developer (LTR Properties, Inc.) requested that TVA make available 46.5 hectares (115 acres) of federal property on the Tellico Reservation for their use in constructing a residential resort and golf course development. This entire project would use the adjoining former TRDA property, private land, as well as the requested 46.5 hectares (115 acres) of TVA land and would eventually include: approximately 1,200 residential units; a lodge complex; a small, 9-hole golf course; a larger, 18-hole golf course; a marina complex; a retail complex; and supporting recreational infrastructure. In addition to making a decision on whether to make the 46.5 hectares (115 acres) available, TVA must decide whether to approve the use of about 2.1 hectares (5 acres) of TVA property for the small, 9-hole golf course.

Because TVA has received a request which supports regional development goals and the original Tellico Project purposes of economic development, TVA has decided to evaluate the proposal. The agency is providing early notice of the proposal to facilitate the identification of issues to be addressed and the development of alternatives to be assessed in the environmental review. The alternatives to be analyzed have not been fully developed at this time but, at a minimum, involve either no action or full or partial development of the 46.5 hectares (115 acres) including the use of the 2.1 hectares (5 acres) requested by LTR Properties, Inc.

Based on the results of the previous public interaction for projects on the Tellico Reservation, TVA anticipates that the EA or EIS will include discussion of the potential effects of alternatives on the following resources: visual resources, cultural resources, threatened and endangered species, terrestrial ecology, wetlands, recreation, water quality, aquatic ecology, and socioeconomics. TVA is interested in receiving additional comments on the issues to be addressed. Written comments on the scope of the environmental review should be received on or before July 26, 2002.

TVA will commence the preparation of an EA for the proposed project after considering public comments received from this scoping process. In the event that information gathered or analyses conducted in preparing this EA indicate that the proposal could have a significant impact on the environment, the agency will prepare an EIS. If TVA decides to prepare an EIS, the scoping process now underway for the EA will be used for the EIS and will not be repeated.

TVA expects to hold a public meeting to provide more information and to receive comments on the proposal in July 2002. Time, location, and place will be announced in local newspapers and may be obtained by contacting the persons listed above.

Dated: June 11, 2002.
Kathryn J. Jackson,
Executive Vice President, River System Operations and Environment.

[FR Doc. 02-15194 Filed 6-14-02; 8:45 am]

BILLING CODE 8120-08-P